DEPARTMENT OF HOMELAND SECURITY

Coast Guard

33 CFR Part 117

[Docket No. USCG-2012-0994]

Drawbridge Operation Regulation; Barataria Bayou, Lafitte, LA

AGENCY: Coast Guard, DHS.

ACTION: Notice of temporary deviation from regulations.

SUMMARY: The Coast Guard has issued a temporary deviation from the operating schedule that governs the LA 302 (Kerner) swing span bridge across the Barataria Bayou, mile 35.7, at Lafitte, Louisiana. The deviation is necessary to allow a movie production crew to safely film at the bridge site. This deviation allows the bridge to remain closed to navigation for 12 hours on two separate nights.

DATES: This deviation is effective from 6 p.m. on November 28 through 6 a.m. November 30, 2012.

ADDRESSES: Documents mentioned in this preamble as being available in the docket are part of docket USCG-2012-0994 and are available online by going to http://www.regulations.gov, inserting USCG-2012-0994 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Kay Wade, Bridge Branch, Coast Guard; telephone 504-671-2128, email Kay.B.Wade@uscg.mil. If you have questions on viewing the docket, call Renee V. Wright, Program Manager, Docket Operations, telephone 202-366-9826.

SUPPLEMENTARY INFORMATION: The Louisiana Department of Transportation and Development has requested a temporary deviation from the operating schedule of the swing span bridge across the Barataria Bayou at mile 35.7 in Lafitte, Jefferson Parish, Louisiana. The vertical clearance of the bridge in the closed-to-navigation position is 7.2 feet above Mean High Water, elevation 0.8 feet and unlimited in the open-to-navigation position. Vessels will not be allowed to pass under the bridge during the closure.

In accordance with 33 CFR 117.5, the bridge opens on signal for the passage of vessels. This deviation allows the swing span of the bridge to remain closed to navigation from 6 p.m. to 6 a.m. on the evenings of Wednesday, November 28, 2012 and Thursday, November 29, 2012.

The closure is necessary in order to safely allow movie production crews to film at the bridge site. Notices will be published in the Eighth Coast Guard District Local Notice to Mariners and will be broadcast via the Coast Guard Broadcast Notice to Mariners System.

Navigation on the waterway consists of commercial and recreational fishing vessels, oil industry supply boats, crew boats, tug boats and standard barges. No alternate routes are available for the passage of vessels; however, the closure was coordinated with waterway interests who have indicated that they will be able to adjust their operations around the proposed schedule.

The bridge will be able to open in the event of an emergency.

Due to prior experience and coordination with waterway users, it has been determined that this closure will not have a significant effect on vessels that use the waterway.

In accordance with 33 CFR 117.35(e), the drawbridge must return to its regular operating schedule immediately at the end of the designated time period. This deviation from the operating regulations is authorized under 33 CFR 117.35.

Dated: November 2, 2012.
David M. Frank,
Bridge Administrator.

[FR Doc. 2012-28126 Filed 11-19-12; 8:45 am]

BILLING CODE 9110-04-P